ENVIRONMENTAL PROTECTION AGENCY

40 CFR Part 52

[Docket No. EPA-R02-OAR-2018-0197; FRL-9981-63—Region 2]

Adequacy Status of Motor Vehicle Emissions Budgets for the New York Portion of the New York-Northern New Jersey-Long Island, NY-NJ-CT, 2008 8-Hour Ozone Nonattainment Area; Correction

AGENCY: Environmental Protection Agency (EPA).

ACTION: Notification of adequacy; correction.

SUMMARY: This document corrects an error in the table posted in the June 8, 2018, notification of adequacy of the motor vehicle emission budgets (MVEB) for the New York portions of the New York-Northern New Jersey-Long Island, NY-NJ-CT 8-hour ozone nonattainment area. The MVEBs were submitted by New York State Department of Environmental Conservation as part of the SIP revision for the area's 2008 8-hour ozone nonattainment area. The MVEB budget table in the original post listed incorrect units for the actual MVEBs. The Environmental Protection Agency (EPA), therefore, is correcting the table to show the correct units.

DATES: This correction is effective on August 14, 2018.

FOR FURTHER INFORMATION CONTACT: Hannah Greenberg, Environmental Protection Agency Region 2, Air Programs Branch, 290 Broadway, 25th Floor, New York, New York 10007-1866; (212) 637-3829, greenberg.hannah@epa.gov.

SUPPLEMENTARY INFORMATION: EPA published a notification of adequacy on June 8, 2018, (83 FR 26597) which found that the 2017 MVEBs for volatile organic compounds (VOCs) and nitrogen oxides (NOX) submitted by the New York State Department of Environmental Conservation for the 2008 NAAQS for ozone are adequate for transportation conformity purposes for the New York portions of the New York-Northern New Jersey-Long Island, NY-NJ-CT 8-hour ozone nonattainment area. In this document, EPA erroneously listed the 2017 MVEB units as tons per year. The actual 2017 MVEB units are tons per day. Therefore, the table is being corrected to list the correct units.

Correction

In the notification of adequacy published in the Federal Register on June 8, 2018 (83 FR 26597), on page 26598, in the second column, the table:

Table 1—2017 Motor Vehicle Emissions Budgets for NYMTC
[Tons per year]
Year | VOC | NOX
2017 | 65.69 | 117.21

is corrected to read:

Table 1—2017 Motor Vehicle Emissions Budgets for NYMTC
[Tons per day]
Year | VOC | NOX
2017 | 65.69 | 117.21

Authority: 42 U.S.C. 7401-7671 q.

Dated: July 20, 2018.
Peter D. Lopez,
Regional Administrator, Region 2.

[FR Doc. 2018-17369 Filed 8-13-18; 8:45 am]

BILLING CODE 6560-50-P